NUCLEAR REGULATORY COMMISSION

[NRC-2016-0079]

Applications and Amendments to Facility Operating Licenses and Combined Licenses Involving Proposed No Significant Hazards Considerations and Containing Sensitive Unclassified Non-Safeguards Information and Order Imposing Procedures for Access to Sensitive Unclassified Non-Safeguards Information

Correction

In notice document 2016-09981 beginning on page 26583 in the issue of Tuesday, May 03, 2016, make the following corrections:

1. On page 26583, in the third column, in the “DATES:” section, “May 31, 2016” should read “June 2, 2016”.

2. On the same page, in the third column, in the “DATES:” section, “June 27, 2016” should read “July 5, 2016”.

3. On the same page, in the third column, in the “DATES:” section, “May 9, 2016” should read “May 13, 2016”.

[FR Doc. C1-2016-09981 Filed 5-5-16; 8:45 am]

BILLING CODE 1505-01-D